DEPARTMENT OF THE INTERIOR

Bureau of Indian Affairs

Proclaiming Certain Lands as Reservation for the Tohono O'odham Nation of Arizona

AGENCY: Bureau of Indian Affairs, Interior.

ACTION: Notice of Reservation Proclamation.

SUMMARY: This notice informs the public that the Assistant Secretary—Indian Affairs proclaimed approximately 642.27 acres, more or less, as the Tohono O'odham Nation Indian Reservation for the Tohono O'odham Nation Tribe of Indians of Arizona on February 28, 2013.

DATE: The proclamation is effective on February 28, 2013.

FOR FURTHER INFORMATION CONTACT: Matthew Kirkland, Bureau of Indian Affairs, Division of Real Estate Services, MS-4639-MIB, 1849 C Street NW., Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be the Tohono O'odham Nation Indian Reservation for the exclusive use of Indians on that reservation who are entitled to reside at the Reservation by enrollment or tribal membership.

Tohono O'odham Nation Indian Reservation

Pima County, Arizona

Parcel 1:

Lots 3 and 4; the Southeast Quarter of the Northwest Quarter; the Northeast Quarter of the Southwest Quarter and the north half of the Southeast Quarter all in Section 1, Township 14 South, Range 5 West, Gila and Salt River Meridian, Pima County, Arizona.

Parcel 2:

The Southwest Quarter of the Northwest Quarter of Section 1, Township 14 South, Range 5 West, Gila and Salt River Meridian, Pima County, Arizona.

Parcel 3:

The west half of the Southwest Quarter, the Southeast Quarter of the Southwest Quarter and the South Half of the Southeast Quarter of Section 1, Township 14 South, Range 4 West, Gila and Salt River Meridian, Pima County, Arizona.

Parcel 4:

The Northeast Quarter of Section 1, Township 14 South, Range 5 West, Gila and Salt River Meridian, Pima County, Arizona.

And those portions of the Northeast Quarter of Section 1, Township 14 South, Range 5 West, Gila and Salt River Meridian, Pima County, Arizona, more particularly described as follows:

All those dedications to Pima County described in Docket 10617, Page 226, Records of Pima County, Arizona; further excepting any portion thereof lying within State Route 86.

The above-described lands contain a total of 642.27 acres, more or less, which is subject to all valid rights, reservations, rights-of-way, and easements of record.

This proclamation does not affect title to the land described above, nor does it affect any valid existing easements for public roads and highways, public utilities and for railroads and pipelines and any other rights-of-way or reservations of record.

Dated: February, 28, 2013.
Kevin K. Washburn,
Assistant Secretary—Indian Affairs.

[FR Doc. 2013-05333 Filed 3-6-13; 8:45 am]

BILLING CODE 4310-W7-P